DEPARTMENT OF COMMERCE

National Institute of Standards and Technology

National Construction Safety Team Advisory Committee Meeting

AGENCY: National Institute of Standards and Technology, United States Department of Commerce.

ACTION: Notice of open meeting.

SUMMARY: The National Construction Safety Team (NCST) Advisory Committee (Committee), National Institute of Standards and Technology (NIST), will meet Monday, September 12, 2005, from 8:30 a.m. to 5 p.m. and Tuesday, September 13, 2005, from 8:30 a.m. to 12 p.m. The primary purpose of this meeting is to review the changes made to the World Trade Center (WTC) Investigation Final Reports in response to comments received from the public. The NCST Advisory Committee will also discuss its annual report to the Congress. The agenda may change to accommodate Committee business. The final agenda will be posted on the NIST Web site at www.nist.gov/ncst.

DATES: The meeting will convene on September 12, 2005, at 8:30 a.m. and will adjourn at 5 p.m. on September 12, 2005. The meeting will resume on September 13, 2005, at 8:30 a.m. and end at 12 p.m. The meeting will be open to the public.

ADDRESSES: The meeting will be held in the Administration Building, Lecture Room A at NIST, Gaithersburg, Maryland. Please note admittance instructions under the SUPPLEMENTARY INFORMATION section of this notice.

FOR FURTHER INFORMATION CONTACT: Stephen Cauffman, National Construction Safety Team Advisory Committee, National Institute of Standards and Technology, 100 Bureau Drive, MS 8611, Gaithersburg, Maryland 20899-8611. Mr. Cauffman's e-mail address is stephen.cauffman@nist.gov and his phone number is (301) 975-6051.

SUPPLEMENTARY INFORMATION: The Committee was established pursuant to Section 11 of the National Construction Safety Team Act (15 U.S.C. 7310 et seq.). The Committee is composed of nine members appointed by the Director of NIST who were selected for their technical expertise and experience, established records of distinguished professional service, and their knowledge of issues affecting teams established under the NCST Act. The Committee will advise the Director of NIST on carrying out investigations of building failures conducted under the authorities of the NCST Act that became law in October 2002 and will review the procedures developed to implement the NCST Act and reports issued under section 8 of the NCST Act. Background information on the NCST Act and information on the NCST Advisory Committee is available at http://www.nist.gov/ncst.

Pursuant to the Federal Advisory Committee Act, 5 U.S.C. app. 2, notice is hereby given that the National Construction Safety Team (NCST) Advisory Committee (Committee), National Institute of Standards and Technology (NIST), will meet Monday, September 12, 2005, at 8:30 a.m. and will adjourn at 5 p.m. on September 12, 2005. The meeting will resume on Tuesday, September 13, 2005, at 8:30 a.m. and end at 12 p.m. The meeting will be held at NIST headquarters in Gaithersburg, Maryland.

The primary purpose of this meeting is to review the changes made to the WTC Investigation Final Reports in response to comments received from the public. The NCST Advisory Committee will also discuss its annual report to the Congress. The meeting will be open to the public. The final agenda will be posted on the NIST Web site at http://www.nist.gov/ncst.

Individuals and representatives of organizations who would like to offer comments and suggestions related to the Committee's affairs, or the WTC Investigation are invited to request a place on the agenda. On September 12, 2005, approximately one-half hour will be reserved for public comments, and speaking times will be assigned on a first-come, first-served basis. The amount of time per speaker will be determined by the number of requests received, but is likely to be 5 minutes each. Questions from the public will not be considered during this period. Speakers who wish to expand upon their oral statements, those who had wished to speak but could not be accommodated on the agenda, and those who were unable to attend in person are invited to submit written statements to the National Construction Safety Team Advisory Committee, National Institute of Standards and Technology, 100 Bureau Drive, MS 8611, Gaithersburg, Maryland 20899-8611, via fax at (301) 975-6122, or electronically by e-mail to ncstac@nist.gov.

All visitors to the NIST site are required to pre-register to be admitted. Anyone wishing to attend this meeting must register by close of business Thursday, September 8, 2005, in order to attend. Please submit your name, time of arrival, e-mail address and phone number to Stephen Cauffman and he will provide you with instructions for admittance. Non-U.S. citizens must also submit their country of citizenship, title, employer/sponsor, and address. Mr. Cauffman's e-mail address is stephen.cauffman@nist.gov and his phone number is (301) 975-6051.

Dated: August 26, 2005.
William Jeffrey,
Director.

[FR Doc. 05-17518 Filed 9-1-05; 8:45 am]

BILLING CODE 3510-13-P